AFRICAN DEVELOPMENT FOUNDATION

ADF Board of Directors Meeting Notice; Correction

Dates: October 5, 2009.

ADF has the following corrections to the notice for the Board of Directors meeting, document 2009-23526, Category Notices, which was published and put on public display in the Federal Register on Wednesday, September 30, 2009. The additional meetings are listed below:

1. On page 50162, under “Entry Time” add the line “Open Session, Tuesday, October 13, 2009, 1 p.m. to 4 p.m.”

2. On page 50162 under “Entry Status” add the line “Open Session, Tuesday, October 13, 2009, 1 p.m. to 4 p.m.”

Lloyd O. Pierson,
President.

[FR Doc. E9-24326 Filed 10-5-09; 4:15 pm]

BILLING CODE 6117-01-P